DEPARTMENT OF THE INTERIOR

Geological Survey

Request for Public Comments on Proposed Information Collection to be Submitted to the Office of Management and Budget for Review Under the Paperwork Reduction Act

The proposed information collection described below will be submitted to the Office of Management and Budget for approval under the provisions of the Paperwork Reduction Act (44 U.S.C. Chapter 35). Copies of the proposed collection of information may be obtained by contacting the Bureau's clearance officer at the phone number listed below. Comments and suggestions on the proposal should be made within 60 days directly to the Bureau clearance officer, U.S. Geological Survey, 807 National Center, 12201 Sunrise Valley Drive, Reston, Virginia, 20192, telephone (703) 648-7313.

Specific public comments are requested as to:

1. Whether the collection of information is necessary for the proper performance of the functions on the bureaus, including whether the information will have practical utility;

2. The accuracy of the bureau's estimate of the burden of the collection of information, including the validity of the methodology and assumptions used:

3. The quality, utility, and clarity of the information to be collected; and

4. How to minimize the burden of the collection of information on those who are to respond, including the use of appropriate automated, electronic, mechanical, or other forms of information technology.

Title: Conservation Reserve Program (CRP) Contractee Perceptions on Environmental Benefits and Management.

OMB Approval No.: New collection.

Abstract: The Conservation Reserve Program (CRP) is the Nation's largest environmental program with enrollment currently over 30 million acres. Continuing refinement of conservation and management provisions by the U.S. Department of Agriculture (USDA) continue to give greater importance to wildlife habitat. Program participants who desire to renew contracts often are required to improve the quality or composition of vegetation on land enrolled in the program. An evaluation of contractee perceptions about the validity of these requirements will assist USDA in refinement of CRP management and conservation policies in the 2002 Farm Bill. Description of contractee opinions about personal, local, and regional effects of the program will be useful for documentation of environmental and social effects of the program.

Bureau Form No.: None.

Frequency: One time.

Description of Respondents: Individual or households.

Estimated Completion Time: 11.5 minutes per respondent (approximate).

Number of Respondents: 1400.

Burden hours: 268 hours. (The burden estimates are based on 11.5 minutes to complete each questionnaire and a 70% return rate.)

All comments concerning this notice should be addressed to Arthur W. Allen, Wildlife Biologist, (970-226-9312), (Arthur_allan@usgs.gov), U.S. Geological Survey, Biological Resources Division, Social, Economic and Institutional Analysis Section, 4512 McMurry Avenue, Fort Collins, CO 80525-3400.

Bureau Clearance Officer: John Cordyack (703) 648-7313.

Dated: November 14, 2000.
Dennis B. Fenn,
Chief Biologist.

[FR Doc. 00-30387 Filed 11-28-00; 8:45 am]

BILLING CODE 41310-Y7-M